DEPARTMENT OF TRANSPORTATION

Surface Transportation Board

[STB Finance Docket No. 34114]

Yolo Shortline Railroad Company—Lease and Operation Exemption—Port of Sacramento

Yolo Shortline Railroad Company (Yolo), a Class III rail carrier, has filed a notice of exemption under 49 CFR 1150.41 to lease from the Port of Sacramento (Port) and to operate approximately 3.1 miles of rail line (known as the Sacramento-Yolo Port Belt Railroad) in West Sacramento, CA. The Port granted Yolo exclusive occupancy and operating rights on portions of the Port's trackage.¹ The rail lines extend from: (1) Engineer's Station 0.0 to Engineer's Station 24+62; (2) Engineer's Station 39+88 to Engineer's Station 62+29; and (3) Engineer's Station 107+33 to Engineer's Station 149+44. Yolo certifies that its projected annual revenues as a result of this transaction will not result in the creation of a Class II or Class I rail carrier.

¹ Port states that, in West Sacramento, it owns and maintains approximately 8 miles of railroad trackage of which it is leasing approximately 3.1 miles to Yolo. The remainder of the trackage is spurs and sidings within the Port's fenced-in industrial area that serves the Port and its various tenants and customers. The Port will retain the control and maintenance of its trackage within the fenced area of the Port's property, and Yolo will be the rail carrier providing direct service to the Port.

The transaction was expected to be consummated on or about October 31, 2001.

If the notice contains false or misleading information, the exemption is void ab initio. Petitions to revoke the exemption under 49 U.S.C. 10502(d) may be filed at any time. The filing of a petition to revoke will not automatically stay the transaction.

An original and 10 copies of all pleadings, referring to STB Finance Docket No. 34114, must be filed with the Surface Transportation Board, Office of the Secretary, Case Control Unit, 1925 K Street, NW., Washington, DC 20423-0001. In addition, a copy of each pleading must be served on Mr. David Magaw, President, Yolo Shortline Railroad Company, 341 Industrial Way, Woodland, CA 95776.

Board decisions and notices are available on our website at: www.stb.dot.gov.

Decided: November 6, 2001.
By the Board, David M. Konschnik, Director, Office of Proceedings.
Vernon A. Williams,
Secretary.

[FR Doc. 01-28401 Filed 11-19-01; 8:45 am]

BILLING CODE 4915-00-P